RAILROAD RETIREMENT BOARD

Sunshine Act Meeting

Notice is hereby given that the Railroad Retirement Board will hold a meeting on May 17, 2000, 9 a.m. at the Board's meeting room on the 8th floor of its headquarters building, 844 North Rush Street, Chicago, Illinois, 60611. The agenda for this meeting follows:

(1) Report on Quality Audit of Railroad Retirement Board Occupational Disability Process.

(2) Medicare Transition.

The entire meeting will be open to the public. The person to contact for more information is Beatrice Ezerski, Secretary to the Board, Phone No. 312-751-4920.

Dated: May 8, 2000.
Beatrice Ezerski,
Secretary to the Board.

[FR Doc. 00-11944 Filed 5-9-00; 10:07 am]

BILLING CODE 7905-01-M